DEPARTMENT OF HOMELAND SECURITY

Coast Guard

[Docket No. USCG-2023-0582]

National Navigation Safety Advisory Committee; Vacancies

AGENCY: U.S. Coast Guard, Department of Homeland Security.

ACTION: Request for applications.

SUMMARY: The U.S. Coast Guard seeks applications to fill two member vacancies on the National Navigation Safety Advisory Committee (Committee). This Committee advises the Secretary of Homeland Security and the Coast Guard on matters relating to maritime collisions, allisions, and groundings; Inland Rules of the Road; International Rules of the Road; navigation regulations and equipment, routing measures, marine information, and aids to navigation systems.

DATES: Completed applications should reach the U.S. Coast Guard on or before October 6, 2023.

ADDRESSES: Applications must include: (a) a cover letter expressing interest in an appointment to the National Navigation Safety Advisory Committee, (b) a resume detailing the applicant's relevant experience for the position applied for, and (c) a brief biography. Applications should be submitted via email with subject line “NNAVSAC Committee Application” to George.H.Detweiler@uscg.mil.

FOR FURTHER INFORMATION CONTACT: Mr. George Detweiler, Alternate Designated Federal Officer of the National Navigation Safety Advisory Committee; telephone 202-372-1566 or email at George.H.Detweiler@uscg.mil.

SUPPLEMENTARY INFORMATION: The National Navigation Safety Advisory Committee is a Federal advisory committee. The Committee must operate under the provisions of the Federal Advisory Committee Act, (Pub. L. 117-286, 5 U.S.C. ch. 10), and 46 U.S.C. 15109.

The Committee was established on December 4, 2018, by section 601 of the Frank LoBiondo Coast Guard Authorization Act of 2018 (Pub. L. 115-282, 132 Stat 4192), and is codified in 46 U.S.C. 15107. In accordance with 46 U.S.C. 15109(a), the Committee is required to hold meetings at least once a year. We expect the Committee to meet at least twice a year, but it may meet even more. The meetings may be held virtually or held at locations across the country selected by the U.S. Coast Guard.

Under provisions in 46 U.S.C. 15109(f)(6), if you are appointed as a member of the Committee, your membership term will expire on December 31st of the third full year after the effective date of your appointment. The Secretary of Homeland Security may require an individual to have passed an appropriate security background examination before appointment to the Committee, 46 U.S.C. 15109(f)(4).

All members serve at their own expense and receive no salary or other compensation from the Federal Government. The only compensation the members may receive is for travel expenses, including per diem in lieu of subsistence, and/or actual and reasonable expenses incurred in the performance of their direct duties at the Committee in accordance with Federal Travel Regulations. If you are appointed as a member of the Committee, you will be required to sign a Non-Disclosure Agreement and a Gratuitous Services Agreement.

In this solicitation for a Committee Members, we will consider applications for two (2) positions to be selected from the following membership categories:

a. Commercial vessel owners or operators

b. Professional mariners

c. Recreational boaters

d. The recreational boating industry

e. State agencies responsible for vessel or port safety

f. The Maritime Law Association

Each member of the Committee must have expertise, knowledge, and experience in matters relating to the function of the Committee which is to advise the Secretary of Homeland Security on matters relating to maritime collisions, allisions, and groundings; Inland Rules of the Road; International Rules of the Road; navigation regulations and equipment, routing measures, marine information, and aids to navigation systems.

The members who will fill the two positions described above will be appointed to represent the interest of their respective groups and viewpoints and are not Special Government Employees as defined in 18 U.S.C. 202(a).

In order for the Department, to fully leverage broad-ranging experience and education, the National Navigation Safety Advisory Committee must be diverse with regard to professional and technical expertise. The Department is committed to pursuing opportunities, consistent with applicable law, to compose a committee that reflects the diversity of the Nation's people.

If you are interested in applying to become a member of the Committee, your application must be emailed to George.H.Detweiler@uscg.mil as provided in the ADDRESSES section of this notice. Applications must include: (a) a cover letter expressing interest in an appointment to the National Navigation Safety Advisory Committee, (b) a resume detailing the applicant's relevant experience for the position applied for, and (c) a brief biography of the applicant by the deadline in the DATES section of this notice.

The U.S. Coast Guard will not consider incomplete or late applications.

Dated: August 1, 2023.
Michael D. Emerson,
Director of Marine Transportation Systems.

[FR Doc. 2023-16749 Filed 8-4-23; 8:45 am]

BILLING CODE 9110-04-P